DEPARTMENT OF THE INTERIOR

Bureau of Land Management

[UTU-72053]

Utah; Proposed Reinstatement of Terminated Oil and Gas Lease

In accordance with Title IV of the Federal Oil and Gas Royalty Management Act (P.L. 97-451), a petition for reinstatement of oil and gas lease UTU-72053 for lands in Carbon County, Utah, was timely filed and required rentals accruing from July 1, 2000, the date of termination, have been paid.

The lessee has agreed to new lease terms for rentals and royalties at rates of $5 per acre and 16⅔ percent, respectively. The $500 administrative fee has been paid and the lessee has reimbursed the Bureau of Land management for the cost of publishing this notice.

Having met all the requirements for reinstatement of the lease as set out in Section 31(d) and (e) of the Mineral Leasing Act of 1920 (30 U.S.C. 188), the Bureau of Land Management is proposing to reinstate lease UTU-72053, effective July 1, 2000, subject to the original terms and conditions of the lease and the increased rental and royalty rate cited above.

Christopher J. Merritt,
Acting Chief, Branch of Minerals Adjudication.

[FR Doc. 00-33401 Filed 12-29-00; 8:45 am]

BILLING CODE 4310-MR-M